DEPARTMENT OF STATE

[Public Notice 5869]

Notice of Receipt of Application for a Presidential Permit for Pipeline Facilities To Be Constructed, Operated, and Maintained on the Borders of the United States

AGENCY: Department of State.

The Department of State has received an application from Eagle Operating Inc. (“Eagle”) for a Presidential permit, pursuant to Executive Order 13337 of April 30, 2004, to construct, connect, operate, and maintain a 3-inch diameter water pipeline at the U.S.-Canadian border, at Burke County, North Dakota, for the purpose of transporting water produced in association with crude oil and natural gas production in Saskatchewan, Canada to a disposal facility located in Burke County, North Dakota. Eagle seeks this authorization in connection with its Lakeview Pipeline Expansion Project (“Lakeview”). According to Eagle's application, the new pipeline is designed to transport salt water produced in association with crude oil and natural gas production from Eagle's Florence South Horizontal 5-1-1-1 W2M well (“Florence Well”), and other wells to be drilled in the area, located in the Province of Saskatchewan, Canada, to Eagle's disposal facility at its Schmidt Estate Well #1-36SWD located in Burke County, North Dakota.

Eagle is a corporation organized under the laws of the State of North Dakota. Eagle's business address is P.O. Box 853, Kenmare, North Dakota 58746. According to the application, Eagle operates approximately 193 oil and gas wells located in the State of North Dakota. As part of these operations, Eagle is the operator of approximately 13 wells utilized for the disposal of salt water produced in association with oil and gas production in the State of North Dakota. Eagle is also the owner of oil and gas leasehold interests located in the Province of Saskatchewan, Canada, including the Florence Well. The Florence Well was completed as a producer of oil and gas on or about August 10, 2006. The Florence Well is operated by Colonia Energy Corp. (“Colonia”). Colonia owns 45 percent of the well and Eagle owns 55 percent of the well. Eagle has asserted in its application that if this application for Presidential permit is approved and the expansion of its existing pipeline is ultimately built, it is likely that Colonia will participate in the line and ownership in the pipeline will be identical to that of the Florence Well (45 percent Colonia and 55 percent Eagle).

According to the description in Eagle's application, the proposed new border crossing would consist of approximately five-hundred (500) feet of 3-inch diameter pipeline on the U.S. side of the international boundary, which would be buried below ground level. The proposed new section of pipe will run from the international boundary to connect to the existing 2-inch diameter pipe connected to the Schmidt Estate #1-36 Well. The new pipeline would become part of the Lakeview Pipeline System.

As required by E.O. 13337, the Department of State is circulating this application to concerned federal agencies for comment. In accordance with Section 102(C) of the National Environmental Policy Act of 1969 (NEPA) (42 U.S.C. 4332(C)) and implementing regulations promulgated by the Council on Environmental Quality (40 CFR parts 1500-1508) and the Department of State (22 CFR part 161), including in particular 22 CFR 161.7(c)(1), the Department of State intends to prepare an environmental assessment (EA) to determine if there are any potential significant impacts and to address alternatives to the proposed action.

DATES: The Department of State welcomes public comment and invites those who are interested in submitting comments relative to this proposal to provide such comments, in duplicate, on or before September 17, 2007 to Jeff Izzo, International Energy Commodity Policy, Room 4843, Department of State, Washington, DC 20520, or e-mail to izzojr@state.gov. The application and related documents that are part of the record to be considered by the Department of State in connection with this application are available for inspection in the Office of International Energy and Commodity Policy during normal business hours.

FOR FURTHER INFORMATION CONTACT: Jeff Izzo, Office of International Energy and Commodity Policy (EEB/ESC/IEC/EPC), Room 4843, Department of State, Washington, DC 20520, telephone 202-647-1291, facsimile 202-647-4037, e-mail izzojr@state.gov.

Stephen J. Gallogly,
Director, Office of International Energy and Commodities Policy, Department of State.

[FR Doc. E7-14008 Filed 7-18-07; 8:45 am]

BILLING CODE 4710-07-P